DEPARTMENT OF THE INTERIOR

Fish and Wildlife Service

[Docket No. FWS-R4-ES-2023-0195; FXES11140400000-245-FF04EA1000]

Receipt of Incidental Take Permit Application and Proposed Habitat Conservation Plan for the Alabama Beach Mouse, Baldwin County, AL; Categorical Exclusion

AGENCY: Fish and Wildlife Service, Interior.

ACTION: Notice of availability; request for comment.

SUMMARY: We, the Fish and Wildlife Service (Service), announce receipt of an application from Christopher Johnson and Gator Wood Properties, LLC (applicants) for an incidental take permit (ITP) under the Endangered Species Act. The applicants request the ITP to take the federally listed Alabama beach mouse (Peromyscus polionotus ammobates) incidental to construction of a multi-family development in Gulf Shores, Baldwin County, Alabama. We request public comment on the application, which includes the applicants' proposed habitat conservation plan (HCP), and the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before December 18, 2023.

ADDRESSES:

Obtaining Documents: You may obtain copies of the documents online in Docket No. FWS-R4-ES-2023-0195 at https://www.regulations.gov.

Submitting Comments: If you wish to submit comments on any of the documents, you may do so in writing by any of the following methods:

• Online: https://www.regulations.gov. Follow the instructions for submitting comments on Docket No. FWS-R4-ES-2023-0195.

• U.S. mail: Public Comments Processing, Attn: Docket No. FWS-R4-ES-2023-0195; U.S. Fish and Wildlife Service, MS: PRB/3W, 5275 Leesburg Pike, Falls Church, VA 22041-3803.

FOR FURTHER INFORMATION CONTACT: Erin Lentz, Project Manager, by telephone at 251-298-3853 or via email at erin_lentz@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Christopher Johnson and Gator Wood Properties, LLC (applicants) for an incidental take permit (ITP) under the Endangered Species Act of 1973, as amended (ESA; 16 U.S.C. 1531 et seq.). The applicants request the ITP to take the federally listed Alabama beach mouse (Peromyscus polionotus ammobates) (ABM) incidental to the construction of a 29-unit multi-family development (project) in Gulf Shores, Baldwin County, Alabama. We request public comment on the application, which includes the applicants' proposed habitat conservation plan (HCP), and the Service's preliminary determination that this proposed ITP qualifies as low effect, and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

Proposed Project

The applicants request a 50-year ITP to take ABM by converting approximately 1.24 acre (ac) of occupied ABM foraging and sheltering habitat incidental to the construction of a 29-unit multifamily development located on two parcels totaling 1.50 ac in Baldwin County, Alabama. The western parcel has already been developed (0.26 ac) and the remaining portion of the project area (1.24 ac) is ABM habitat. Even though the parcels consist of highly degraded secondary dune habitat, it is occupied by ABM. The applicants proposed to mitigate for the take of the ABM through a contribution to the City of Gulf Shores Dune Enhancement Fund at a rate of $250 per unit ($7,250 annually) for the life of the permit (50 years). Contributions to the Gulf Shores Dune Enhancement Fund are directed towards the maintenance of suitable dune habitat for the ABM within the Gulf Shores City jurisdiction.

Our Preliminary Determination

The Service has made a preliminary determination that the applicants' project, including land clearing, infrastructure building, landscaping, and the proposed mitigation and minimization measures, would individually and cumulatively have a minor effect on the Alabama beach mouse and the environment. Therefore, we have preliminarily determined that the proposed ESA section 10(a)(1)(B) permit would be a low-effect ITP that individually or cumulatively would have a minor effect on the Alabama beach mouse and may qualify for application of a categorical exclusion pursuant to the Council on Environmental Quality's NEPA regulations, DOI's NEPA regulations, and the DOI Departmental Manual. A low-effect incidental take permit is one that would result in (1) minor or nonsignificant effects on species covered in the HCP; (2) nonsignificant effects on the human environment; and (3) impacts that, when added together with the impacts of other past, present, and reasonably foreseeable actions, would not result in significant cumulative effects to the human environment.

Next Steps

The Service will evaluate the application and the comments received to determine whether to issue the requested permit. We will also conduct an intra-Service consultation pursuant to section 7 of the ESA to evaluate the effects of the proposed take on the species. We will consider all of the above in determining whether the permit issuance criteria of section 10(a)(l)(B) of the ESA have been met. If met, the Service will issue ITP number PER4215073 to Christopher Johnson and Gator Wood Properties, LLC.

Public Availability of Comments

Before including your address, phone number, email address, or other personal identifying information in your comment, be aware that your entire comment, including your personal identifying information, may be made available to the public. While you may request that we withhold your personal identifying information, we cannot guarantee that we will be able to do so.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

William J. Pearson,
Field Supervisor, Alabama Ecological Service Field Office.

[FR Doc. 2023-25435 Filed 11-16-23; 8:45 am]

BILLING CODE 4333-15-P